DEPARTMENT OF TRANSPORTATION

National Highway Traffic Safety Administration

[Docket No. NHTSA 2001-10382; Notice 1]

International Truck and Engine Corporation; Receipt of Application for Decision of Inconsequential Noncompliance

International Truck and Engine Corporation (International) of Fort Wayne, Indiana, has determined that approximately 801 vehicles produced from January 1, 1986, through January 16, 2001, are noncompliant with paragraphs 5.1.1 of Federal Motor Vehicle Safety Standard (FMVSS) No. 120, “Tire Selection and Rims for Motor Vehicles Other Than Passenger Cars.”

Pursuant to 49 U.S.C. 30118(d) and 30120(h), International has petitioned for a determination that this noncompliance is inconsequential to motor vehicle safety and has filed an appropriate report pursuant to 49 CFR Part 573, “Defect and Noncompliance Reports.”

This notice of receipt of an application is published under 49 U.S.C. 30118 and 30120 and does not represent any agency decision or other exercise of judgment concerning the merits of the application.

International built 801 vehicles with 295/75R22.5 tires mounted on 7.50-inch wide rims. Paragraph S5.1.1 of FMVSS No. 120 requires that vehicles be equipped with rims that are listed as suitable for use with the tires that are mounted on them in accordance with paragraph S5.1 of FMVSS No. 119, “New Pneumatic Tires for Vehicles other than Passenger Cars.” Paragraph S 5.1 of FMVSS No. 119 requires that a listing of the dimensions of the rims that may be used with each tire be provided to the public. This requirement is met if the information concerning tire and rim size matching is published in “The Tire and Rim Association, Inc.” (T&RA) Yearbook. According to T&RA, the approved rim widths for the 295/75/R22.5 tires are 8.25—9.00 inches.

International states that the T&RA approved rim widths are based on an engineering guideline that the rim width should be 70 to 80 percent of the tire section width. It also cites a statement in the T&RA Yearbook that the effect of using rims of different than the design rim width is to change the tire section width by 0.1 inch for each 0.25 inch change in rim width. Consequently the 7.5 inch rim width is 67 percent of the reduced tire section width of 11.13 inches. International concludes that the 7.5 inch rim width provides 95 percent of the recommended rim width for the tire.

The petitioner has corrected its tire wheel assembly instruction charts and, as of January 17, 2001, no longer produces this noncompliant tire and wheel combination.

International states that the noncompliance of the 295/75R22.5 tires being mounted on the 7.5” wheel is inconsequential as it relates to motor vehicle safety for the following reasons:

1. International customers have operated vehicles of various model types for 15 years, with this combination of tire and wheel, with no reported problems.

2. International has corrected its tire wheel assembly instruction charts and as of 1/17/01, will no longer produce this non-compliant tire and wheel combination.

3. Many of these vehicles may have likely gone through several tire replacement cycles without reported problems.

Interested persons are invited to submit written data, views, and arguments on the application described above. Comments should refer to the docket and notice number and be submitted to: U.S. Department of Transportation, Docket Management, Room PL-401, 400 Seventh Street, SW, Washington, DC, 20590. It is requested that two copies be submitted.

All comments received before the close of business on the closing date indicated below will be considered. The application and supporting materials, and all comments received after the closing date, will also be filed and will be considered to the extent possible. When the application is granted or denied, a notice will be published in the Federal Register pursuant to the authority indicated below. Comment closing date: September 24, 2001.

(49 U.S.C. 301118, 301120; delegations of authority at 49 CFR 1.50 and 501.8)

Issued on: August 20, 2001.
Stephen R. Kratzke,
Associate Administrator for Safety Performance Standards.

[FR Doc. 01-21455 Filed 8-23-01; 8:45 am]

BILLING CODE 4910-59-P